DEPARTMENT OF VETERANS AFFAIRS

Veterans' Advisory Committee on Education; Notice of Meeting

The Department of Veterans Affairs (VA) gives notice under the Federal Advisory Committee Act, Public law 92-463, that a meeting of the Veterans' Advisory Committee on Education, authorized by 38 U.S.C. 3692, will be held March 25 and 26, 2002. The meeting will take place at the offices of the Servicemembers Opportunity Colleges, 1307 New York Avenue, Washington, DC. On Monday, March 25, the meeting will begin at 9 a.m. and end at 4 p.m. On Tuesday, March 26, the meeting will begin at 9 a.m. and end at 12 p.m. The purpose of the Committee is to assist in the evaluation of existing programs and services, and recommend needed programs and services.

On March 25, the meeting will begin with opening remarks and an overview by Dr. Steve Kime, Committee Chairman. The Committee will discuss the Partnership for Veterans' Education and recent legislation, including new standards and guidelines to be created. In the afternoon, the Committee will receive briefings on the Veterans' Claims Processing Task Force's report; GAO Study 02-368, Veterans' Education Benefits Comparison of Federal Assistance Awarded to Veterans and Nonveterans Students; and Access and Technology, Web Portal Concept. On March 26, the Committee will review major issues addressed by the Committee in the past and their current status and any new issues they feel should be introduced. The meeting will conclude with a discussion regarding developing the Committee's report.

The meeting is open to the public. Interested persons may attend, appear before, or file statements with the Committee. Statements, if in written form, may be filed before or within 10 days after the meeting. Oral statements will be heard at 9:30 a.m., Tuesday, March 26, 2002. Those wishing to attend or file written statements should contact Mr. Michael Yunker, Education Strategy Development (224B), Department of Veterans Affairs, 810 Vermont Avenue, NW, Washington, DC 20420, phone (202) 273-7187.

Dated: March 13, 2002.
By Direction of the Secretary:
Nora E. Egan,
Committee Management Officer.

[FR Doc. 02-6769 Filed 3-19-02; 8:45 am]

BILLING CODE 8320-01-M